DEPARTMENT OF EDUCATION

[Docket ID ED-2021-OESE-0044]

Final Priorities and Definitions—Education Innovation and Research—COVID-19 and Equity

AGENCY: Office of Elementary and Secondary Education, Department of Education.

ACTION: Final priorities and definitions.

SUMMARY: The Department of Education (Department) announces priorities and definitions under the Education Innovation and Research (EIR) program, Assistance Listing Numbers 84.411A/B/C. The Department may use these priorities and definitions for competitions in fiscal year (FY) 2021 and in later years.

DATES: These priorities and definitions are effective August 27, 2021.

FOR FURTHER INFORMATION CONTACT: Ashley Brizzo. U.S. Department of Education, 400 Maryland Avenue SW, Room 3E325, Washington, DC 20202. Telephone: (202) 453-7122. Email: EIR@ed.gov.

If you use a telecommunications device for the deaf (TDD) or a text telephone (TTY), call the Federal Relay Service (FRS), toll free, at 1-800-877-8339.

SUPPLEMENTARY INFORMATION: The Department intends these priorities and definitions to support competitions under the EIR program for the purpose of developing, implementing, and evaluating projects designed to enhance instructional practice and improve achievement and attainment for high-need students in two key policy areas: (1) Innovative approaches to addressing the impact of the novel coronavirus 2019 (COVID-19) pandemic on students and educators (namely, the interruption of traditional patterns of education due to school closures and the disproportionate social, emotional, physical and mental health, and academic impacts on particular student groups), and (2) promoting equity in students' access to educational resources and opportunities. The Department believes that these priorities and definitions are essential to enable applicants to respond to the COVID-19 pandemic and address equity issues.

Purpose of Program: The EIR program, established under section 4611 of the Elementary and Secondary Education Act, as amended (ESEA), provides funding to create, develop, implement, replicate, or take to scale entrepreneurial, evidence-based, field-initiated innovations to improve student achievement and attainment for high-need students; and rigorously evaluate such innovations. The EIR program is designed to generate and validate solutions to persistent education challenges and to support the expansion of those solutions to serve substantially larger numbers of students.

Program Authority: Section 4611 of the ESEA, 20 U.S.C. 7261.

We published a notice of proposed priorities and definitions for this program in the Federal Register on May 3, 2021 (86 FR 23304) (the NPP). That document contained background information and our reasons for proposing the priorities and definitions.

Public Comment: In response to our invitation in the NPP, 32 parties submitted comments pertinent to the proposed priorities and definitions. We discuss substantive issues under each priority (and its subparts) or definition to which they pertain. Generally, we do not address technical and other minor changes or suggested changes the law does not authorize us to make. In addition, we do not address comments that are outside the scope of the proposed priorities and definitions.

Analysis of Comments and Changes: An analysis of the comments and of any changes in the priorities and definitions since publication of the NPP follows.

General Comments; Proposed Priority 1—Innovative Approaches to Addressing the Impact of COVID-19 on Underserved Students and Educators.

Comments: Among the 26 comments related to the COVID-19 priority, all expressed overall support for the importance of and need for the priority. One of those commenters, however, stated that there are too many avenues listed within the priority, which could result in too varied of a field for useful evaluation data.

Commenters noted a few areas that were not addressed in the NPP and offered the following ideas for potential additions. Four commenters stated the importance of universal design for learning (UDL) as a critical strategy for addressing the impact of COVID-19. Two commenters suggested the inclusion of culturally responsive teaching. One commenter requested the addition of competency-based education and another commenter provided an idea about multiple pathways to learning. One commenter emphasized the need to help adults to better understand students' learning. Two commenters suggested the addition of activities related to the use of assessments and other diagnostic tools; and another commenter suggested supporting evaluations focused on the specific impact of COVID-19.

Six commenters provided various suggestions about the ways teachers and leaders are essential in implementing the activities under the priority and that training and supporting those individuals (through activities such as in-service professional development, coaching, leader development, and peer-to-peer learning) is critical to a project's success. Specifically, one commenter suggested an additional priority for professional development for school leaders to support the implementation of activities. Five commenters suggested holistic and integrated approaches to achieve optimal impact.

Seven commenters offered various suggestions about elevating specific elements within this priority. For example, some commenters stated that specific priorities should be used as absolute or competitive priorities to elevate them above others. Three commenters offered suggested changes that would prioritize specific students listed in the definition of “underserved students.”

Discussion: We appreciate the support for these proposed priorities and definitions. The Department intends to maintain the current list of options in the priority and definitions as a means to provide multiple potential project ideas for applicants to propose that address the impact of COVID-19. Although the Department acknowledges the comment on the variety of avenues, there remains interest in articulating specific options under the priority and allowing for flexibility in the innovations proposed within those options to illuminate a variety of projects that might meet the needs of underserved students and educators most impacted by COVID-19. Furthermore, the evaluations for each grantee funded under this priority have the potential to illuminate key findings about various responses to the pandemic that might inform strategies considered in response to a myriad of future crises. The Department acknowledges that COVID-19 has presented multi-faceted and unique challenges that necessitate a flexible set of responses.

The Department concurs with the importance of UDL and appreciates the multiple suggestions for its inclusion. The Department also agrees with the importance of culturally responsive teaching and learning environments and further recognizes a need for linguistically responsive teaching and learning environments; as such, culturally and linguistically responsive teaching and learning environments is included explicitly in Priority 2(b), and the Department welcomes the submission of those proposed plans in grant applications under that priority. Additionally, applicants may choose to propose a project under Priority 1 that includes an element of culturally and linguistically responsive teaching and learning (such as a personalized learning project that incorporates content from students' cultural background or a trauma-informed training project for teachers including a component on various cultural traditions of dealing with loss).

Although the other suggested additions are important educational objectives, the Department is interested in maintaining the current list to allow their prioritization and welcomes applicants to submit specific examples that are within the parameters of the final priority.

The Department appreciates the thoughtful ideas about potential ways to design projects that can support implementation, such as professional development for school leaders, and welcomes the submission of those proposed plans in grant applications. The Department will consider the input about potential ways to use these priorities in future grant competitions.

Changes: We have revised paragraph (b)(3) in Priority 1 by adding UDL, as defined in section 8101(51) of the ESEA.

Priority 1(a)—Collaborating with Stakeholders.

Comments: Several commenters confirmed the importance of stakeholder collaboration and family engagement. For example, one commenter specified collaboration as key to building capacity to overcome pre-pandemic inequities. Another noted the importance of two-way collaboration based on mutual trust and respect, while other commenters emphasized the need for collaboration to include diverse cultural, linguistic, and socioeconomic representation.

There were also requests by three commenters to add language about sustaining partnerships between schools and key institutions, such as community clinics and local government, to provide integrated support for students. Another commenter suggested specific inclusion of school leaders.

Discussion: The Department appreciates the comments in support of stakeholder collaboration. We agree that collaboration that reflects mutual respect is essential for authentic collaboration and that diverse representation is essential.

The Department acknowledges the importance of sustained partnerships and applicants are invited to outline their plans for such partnerships.

Regarding the suggested addition of school leaders, the Department opted for the term “educators” to be inclusive of teachers as well as school leaders.

Changes: The Department has added new language in paragraph (a) of Priority 1 to specify the respectful and mutual nature of collaboration as well as the need for it to include diverse representation. The Department also clarified in paragraph (a) that “educators” means teachers, school leaders, and other school staff.

Priority 1(b)(1)—Re-engaging Students.

Comments: Several commenters addressed the requirement in paragraph (b)(1) that project plans re-engage underserved students and strengthen relationships between educators and underserved students most impacted by COVID-19. One commenter recommended adding language regarding family engagement. Two commenters suggested the addition of strategies to support students' safety and sense of belonging by improving school climate. Another commenter noted the importance of re-engaging students experiencing homelessness and offered specific strategies to remove barriers to enrollment (such as updating enrollment materials to include information about rights under McKinney-Vento and leveraging the support of specialized instructional support personnel).

Discussion: The Department appreciates the suggestion and agrees with the importance of family members in re-engaging students in learning. The Department appreciates specific ideas about how to re-engage students and welcomes entities applying for an EIR grant to detail such project plans; maintaining the broad language in the priority, however, will also allow for other ideas.

The Department acknowledges the importance of re-engaging students experiencing homelessness and applicants are invited to outline their plans for such focus.

Changes: The Department has revised paragraph (b)(1) to provide that families, as well as students, must be re-engaged.

Priority 1(b)(5)—Equitable and Inclusive Learning Environments.

Comments: One commenter suggested revising paragraph (b)(5) of the priority to address students' exploration and affirmation of their identity.

Discussion: The Department appreciates specific ideas about how to create equitable and inclusive learning environments and welcomes entities applying for an EIR grant to detail such project plans if they so choose; maintaining the broad language in the priority, however, will also welcome other ideas from applicants.

Changes: None.

Priority 1(b)(6)—Specialized Instructional Support Personnel.

Comments: One commenter stated that specialized instructional support personnel should be highly trained. Another commenter suggested the addition of tutors and youth development practitioners.

Discussion: The definition of “specialized instructional support personnel” assumes the formal training required for school counselors, school social workers, school psychologists, or other qualified professional personnel. As such, we do not believe we need to specify that they must be highly trained; applicants can, however, include in their proposed projects plans for training project staff and participants.

In response to the proposed additional types of personnel, the Department intends to maintain the priority of ensuring access to specialized instructional support personnel to reinforce the specific role professionals, such as school counselors and school social workers, can have in addressing the needs of underserved students most impacted by COVID-19. Included in the definition of specialized instructional support personnel is “other qualified professional personnel.” Additionally, applicants are welcome to include in their proposed projects additional types of staff.

Changes: None.

Priority 1(b)(7)—Supporting Students Experiencing Homelessness.

Comments: One commenter suggested including “creating strategies” in paragraph (b)(7) of this priority.

Discussion: We believe that creating and implementing strategies to find and support students is already built into the required action.

Changes: None.

Priority 1(b)(9)—Accelerating Grade-level Learning.

Comments: A number of commenters suggested additions to paragraph (b)(9) on accelerated learning. Specifically, two commenters asked the Department to emphasize the importance of improving the core instruction that occurs within the classroom. Other commenters asked that we specify summer learning experiences and accelerated diploma pathways as strategies to accelerate learning. One commenter suggested we revise paragraph (b)(9)(ii) to include a focus on identifying and reconnecting with students approaching post-secondary transitions.

Discussion: The Department agrees with the suggestion to add an emphasis on improving in-classroom instruction.

In response to the recommendation to include summer learning and accelerated pathways as strategies to accelerate learning, those types of activities would already fall within the scope of the priority, so changes are not needed. Similarly, we think that identifying and reconnecting with students approaching post-secondary transitions could be one component of a project with a broader focus on providing targeted supports for students in preparing for post-secondary education transitions under paragraph (b)(9)(ii), and that no changes are needed to permit this activity.

Changes: We have revised paragraph (b)(9) to specify the classroom as a setting for accelerated learning.

General Comments; Priority 2—Promoting Equity and Adequacy in Student Access to Educational Resources and Opportunities.

Comments: Many commenters strongly supported a priority that promotes equity; a few of those commenters offered specific reasons for their support. One commenter noted that there is a strong and critical need for exploring and evaluating innovative approaches to equity. Three commenters expressed their enthusiasm for a focus on chronically underserved students and communities, and three commenters expressed support for promoting equity through access to effective, high-quality teachers in high-need schools. Another commenter noted that the priority is aligned with current scientific learnings about teaching and learning. Two commenters applauded this priority as one that focuses on underserved students' individual needs through a whole-child approach.

Commenters noted a few areas that were not addressed in the proposed priority and recommended additions, including the following: A focus on strengthening and diversifying the teacher workforce; an expansion of equitable access to effective teachers to also include school leaders; a reference to alternative routes for educator credentialing; and a focus on National Board Certification.

Discussion: The Department appreciates the support for Priority 2. We agree on the importance of teacher diversity and think that incorporating this focus in paragraph (a)(1) is useful to support projects that improve teacher preparation, recruitment, early career support, and development, with teacher diversity as a focus. Strengthening the workforce is already included in the priority as stated. Although the Department agrees, in general, with the importance of equitable access to effective school leaders, we are interested in EIR projects that focus on equitable access to effective teachers. Projects proposed by applicants that focus on equitable access to effective teachers may include equitable access to effective school leaders as an additional project component; entities interested in this topic as their sole focus may explore other grant programs in the Department. Projects that support various routes to obtaining full or advanced certification, consistent with State certification requirements, would be welcome under paragraph (a)(3) of this priority.

Changes: In paragraph (a)(1) of Priority 2, the Department added strategies that improve teacher diversity.

Priority 2(a)(1)—Preparation, Recruitment, Early Career Support, and Development.

Comments: Two commenters suggested that additional text specifying that high-need areas, including special education be included as part of the activity.

Discussion: The Department includes students with disabilities within the definition of underserved students. We also call for applicants to address inequities in access to fully certified, experienced, and effective teachers, and therefore, welcome applicants to address shortages of special education educators.

Changes: None.

Priority 2(a)(2)—Hiring, Compensation, and Advancement Systems.

Comments: One commenter supported the focus in paragraph (a)(2) on compensation and career advancement. Another commenter proposed an emphasis on schools with the students who have the highest needs and students of color.

Discussion: The Department appreciates the idea of compensation and career advancement and notes that the priority, as stated, already explicitly notes these areas of focus. Regarding a focus on a specific set of schools, we maintain flexibility in the language of the priority in order to allow applicants to address the unique needs in their context; applicants are invited to describe the ways they intend to support underserved students and high-need students, which allows for emphasis on students attending specific types of schools.

Changes: None.

Priority 2(a)(3)(iii)—Professional Development.

Comments: One commenter recommended that we revise paragraph (a)(3)(iii) to include ongoing anti-bias training and practices. Another commenter suggested that we require the professional development to be high-quality, inclusive, and accessible, noting that such professional development can greatly benefit all students, especially those with disabilities.

Discussion: Regarding anti-bias training, the Department is interested in maintaining broad and flexible language in this priority to allow proposed projects to include activities most relevant to their specific context; we welcome applicants to propose projects that include anti-bias training under paragraph (a)(3)(iii) of Priority 2. The Department agrees with the need for professional development to be high quality and has clarified that we use the term “professional development” as it is defined in section 8101(42) of the ESEA, which specifies aspects of professional learning that are indicators of quality. We also agree that all projects under EIR should be inclusive and accessible; the existing requirement applicable to this program under section 427 of the General Education Provisions Act already requires applicants to ensure equitable access to, and participation in, federally assisted programs. However, the Department welcomes projects that include these specific ideas.

Changes: We have revised paragraph (a)(3)(iii) to clarify that we refer to “professional development” as it is defined in section 8101(42) of the ESEA.

Priority 2(a)(3)(iv)—Workplace Conditions.

Comments: One commenter suggested that, in paragraph (a)(3)(iv) of Priority 2, we emphasize creating inclusive and culturally affirming working environments for all teachers.

Discussion: The Department supports the betterment of workplace conditions for high-quality teaching and learning and appreciates the suggested improvement to further clarify the priority.

Changes: The Department has revised Priority 2 under paragraph (a)(3)(iv) by adding the creation of inclusive and culturally affirming working environments as a means to improve workplace conditions.

Priority 2(c)—Addressing Bias and Inclusive, Supportive Learning Environments.

Comments: Eight commenters expressed general support for addressing implicit bias. One commenter, however, expressed concern that while this activity is commendable, it could be difficult to evaluate.

Discussion: Although projects proposed under this subpart may have unique considerations for evaluation design, it will be up to applicants to propose rigorous evaluation approaches that are responsive to the relevant requirements and selection criteria in the notice inviting applications.

Changes: None.

Priority 2(d)—Including Diverse Stakeholders.

Comments: Eight commenters supported this priority subpart. However, one commenter suggested that we expand the list of diverse stakeholders to include families, caretakers, educators, and community leaders.

Discussion: The Department agrees that State and local education decision-making processes should include meaningful engagement with a broad range of stakeholders, including families, caretakers, educators, and community leaders.

Changes: The Department has added new language in paragraph (d) of Priority 2 to expand the diverse representation of stakeholders to also include families, caretakers, educators, and community leaders and clarify that “educators” means teachers, school leaders, and other school staff.

Priority 2(e)—Exclusionary Discipline and Resource Equity.

Comments: One commenter expressed appreciation for this subpart, especially as it related to the disproportionate use of discipline on students with disabilities. Another commenter suggested we add a third activity to paragraph (e) related to studying the impact of additional funding to meet the needs of underserved students, and allow applicants to propose projects that address one or more of the three. Another commenter, while citing the importance of supporting resource equity, suggested adding language regarding measurability.

Discussion: The Department appreciates the need for clarity on the distinction between discipline and resource equity. Regarding the suggested additional activity, applicants would be welcome under paragraph (f) of this priority to outline their plans exploring the impact of additional funding levels. The Department appreciates the focus on measurability, which is already addressed by the program requirement that requires grantees to conduct an independent evaluation of the effectiveness of its project.

Changes: The Department has revised the priority by separating the topics of discipline and resource equity into two distinct activities in paragraph (e) and (f).

Definition—High-Quality Tutoring

Comments: Nine commenters proposed changes to improve the definition of “high-quality tutoring” and one commenter supported the definition as written.

Three commenters asked that we require the tutoring to be aligned with academic standards, and another suggested specifying that tutoring does not replace classroom teaching. Five commenters suggested that we include specific evidence tiers in the definition, and five others suggested specifying that small groups be no larger than four students per tutor. Two commenters stated that the definition should require that tutoring occur during the regular school day, while several others recommended specific requirements on its frequency and duration (e.g., that tutoring should occur at least every other day and for the entire school year).

Three commenters also suggested we revise the definition to require equitable access to the tutoring or a specific focus on underserved students, and another recommended that we require tutors to be well-trained for the specific tutoring strategies implemented during the tutoring sessions.

Discussion: The Department agrees with the suggestions for refining the definition to clarify that tutoring does not replace classroom teaching and must be aligned with academic standards. Regarding comments about enhancing the evidence requirement within this definition, the EIR program already includes specific evidence requirements consistent with the program statute (for example, Early-phase grantees must meet the Demonstrates a Rationale level of evidence).

The Department declines to be prescriptive on specific ratios, dosage, frequency, duration, or time of day to allow applicants to propose plans appropriate to student need and contextual consideration. The Department agrees that equitable access to high-quality tutoring and focusing projects on underserved students is important. However, equitable access is already required under section 427 of the General Education Provisions Act. A focus on serving high-need students is already required under section 4611(a)(1)(A) of the ESEA.

Regarding the suggestion that a tutor's training be specific to the tutoring strategies being used, the Department has determined that such clarification is not necessary as tutors may employ a mix of existing strategies that do not necessitate training and new strategies for which specific training is necessary. Additionally, broad training (such as training on behavior management or content) may also be useful to tutors and the Department does not want training of this nature to be precluded.

Changes: The Department has revised the definition of “high-quality tutoring” by adding language to clarify that it should not be a replacement for classroom teaching and that it should be aligned to standards.

Definition—Personalized Learning

Comments: One commenter offered general support for the definition of “personalized learning.” Another expressed concern that varying objectives and content might result in lower standards.

One commenter suggested emphasizing the student's role in decision making, while another commenter offered an alternate definition with similar elements of tailoring learning to students needs and interests.

Discussion: The Department appreciates the support for the definition of “personalized learning.” Personalized learning inherently involves customizing content and pace to meet learner needs. Accordingly, the Department is maintaining the flexibility for projects to tailor the objectives and content of the instruction to learner needs, but notes, in recognition of the commenter's concerns about quality, that the definition requires the instruction to be aligned with rigorous standards. The Department agrees that student-centered decision-making is a key element of personalized learning; the definition notes that student feedback is one potential source of data that may be used to personalize learning. This definition draws on language used by the Department across programs, and we believe that maintaining consistent language is helpful for stakeholders and the Department in administering its programs. However, we note that the final definition shares its core elements with the proposed alternative definition.

Changes: None.

Definition—Underserved Students

Comments: Of the four comments related to the definition of “underserved students,” one generally supported the comprehensive detail in the proposed definition. Another commenter specifically supported the inclusion of “intersex” students in paragraph (i), which initially stated the following: “Lesbian, gay, bisexual, transgender, queer, and intersex (LGBTQI+) students.” Two commenters suggested that we revise paragraph (e) relating to students with disabilities, to clarify that it includes students served under the Individuals with Disabilities Education Act (IDEA) and Section 504 of the Rehabilitation Act of 1973.

One commenter suggested additional examples of underserved students, including students first in their family to graduate high school and adults who previously dropped out.

Discussion: The Department appreciates the support for the definition as well as the suggested clarification to ensure broad inclusion of students with disabilities. The Department understands the importance of inclusion and respecting the rights of intersex students. Every time the Department uses the term LGBTQ+, it is including intersex youth. The definition is non-exhaustive so entities applying for an EIR grant may include other examples of underserved students (such as the two proposed additions as well as intersex students) relevant to their proposed project.

Changes: The Department revised paragraph (e) to clarify that “students with disabilities” includes students served under IDEA and Section 504. The Department has also removed the explicit mention of intersex students in paragraph (i).

Other Definitions

Comments: A few commenters suggested other terms for the Department to define. One commenter suggested adding a definition for “whole-learner approaches”; the proposed definition included comprehensive description with proposed approaches that support physical, social-emotional, creative, and cognitive development, among other specifics, with a suggestion to use that definition in both proposed priorities. Three commenters suggested we revise the definitions for “specialized instructional support personnel” and “well-rounded education.” Another commenter suggested we adopt the definition of “professional development” from section 8101 of the ESEA.

Discussion: The proposed definition of “whole-learner approaches” includes elements already supported in EIR or included in the NPP (such as social-emotional learning, well-rounded education, culturally and linguistically responsive teaching, and personalized learning). Accordingly, an applicant could propose those types of activities under the priorities as stated, so changes to the priorities and definitions are not needed. As this program is authorized under the ESEA, we will use the ESEA definitions of “specialized instructional support personnel” and “well-rounded education” for consistency across programs. We agree that the definition of “professional development” in section 8101(42) of the ESEA includes strong components of high-quality professional development.

Changes: We have clarified in each place where “professional development” is referenced in the priorities (including Priority 1 paragraph (b)(4), Priority 2 paragraph (a)(3)(iii), and Priority 2 paragraph (2)(f)) that we are using the term as defined in section 8101(42) of the ESEA.

Final Priorities

This document contains two final priorities.

Priority 1—Innovative Approaches to Addressing the Impact of COVID-19 on Underserved Students and Educators.

Projects designed to address the needs of underserved students and educators most impacted by COVID-19 through—

(a) Engaging in two-way, mutually respectful collaboration with key stakeholders, such as families, caretakers, students, educators (including teachers, school leaders, and other school staff), and community leaders (including individuals from diverse cultural, linguistic, and socioeconomic backgrounds), to assess and understand students' social, emotional, physical and mental health, and academic needs, in light of historical educational inequities and the impact of the COVID-19 pandemic; and

(b) Developing and implementing strategies to address those needs through one or more of the following:

(1) Re-engaging students (and their families) and strengthening relationships between educators, students, and families.

(2) Supporting district- and school-wide use of personalized learning (as defined in this notice).

(3) Utilizing multi-tier system of supports (as defined in section 8101(33) of the ESEA) and universal design for learning (as defined in section 8101(51) of the ESEA).

(4) Providing educators with professional development (as defined in section 8101(42) of the ESEA) and resources to use trauma-informed practices.

(5) Creating or supporting equitable and inclusive learning environments in schools.

(6) Ensuring students have access to additional specialized instructional support personnel (as defined in section 8101(47 of the ESEA) during their school day, at their school site.

(7) Finding and supporting students experiencing homelessness, including those not attending school during the pandemic.

(8) Providing additional supports to educators to address their mental health and well-being and instructional practice needs.

(9) Providing evidence-based supports and educational opportunities to accelerate grade-level student learning (especially for underserved students) through in-class learning and additional instructional practice, including those supported by technology in ways that do not contribute to tracking or remediation, which may include one or both of the following:

(i) High-quality tutoring (as defined in this notice), summer learning and enrichment, or opportunities for high-quality expanded learning time (as defined in section 8101(2) of the ESEA) as well as implementation of embedded, high-quality formative assessment to support personalization.

(ii) Providing targeted supports for high school students to prepare for post-secondary education transition and success.

Priority 2—Promoting Equity and Adequacy in Student Access to Educational Resources and Opportunities.

Projects designed to promote equity in access to critical resources for underserved students in prekindergarten through grade 12 through one or more of the following:

(a) Addressing inequities in access to fully certified, experienced, and effective teachers through one or more of the following activities:

(1) Improving the preparation, recruitment, early career support, and development of teachers in high-need or hard-to-staff schools, including strategies that improve teacher diversity.

(2) Reforming hiring, compensation, and advancement systems.

(3) Improving the retention of fully certified (including teachers certified in the area they are assigned to teach), experienced, and effective teachers in districts, schools, and classrooms serving high concentrations of underserved students through one or more of the following activities:

(i) Providing comprehensive, high-retention pathways into the profession.

(ii) Creating or enhancing opportunities for teachers' professional growth and leadership opportunities.

(iii) Delivering collaborative, job-embedded, and sustained professional development.

(iv) Improving workplace conditions to create opportunities for successful teaching and learning, including through inclusive and culturally affirming working environments.

(b) Addressing inequities in access to and success in rigorous, engaging, and culturally and linguistically responsive teaching and learning environments that prepare students for college and career through one or both of the following activities:

(1) Increasing access to and success in middle school courses that are foundational to advanced coursework in high school; advanced courses and programs, including Advanced Placement, International Baccalaureate, high-quality dual or concurrent enrollment (as defined in section 8101(15) of the ESEA), and high-quality early college high school (as defined in section 8101(17) of the ESEA) programs; high-quality STEM programs; or high-quality career and technical education pathways that are integrated into the curriculum.

(2) Developing, and expanding access to, programs designed to provide a well-rounded education (as defined in section 8101(52) of the ESEA).

(c) Addressing bias (e.g., implicit and explicit) and creating inclusive, supportive learning environments.

(d) Involving diverse stakeholders to include students, families, caretakers, educators (including teachers, school leaders, and other staff), and community leaders in State and local education decisions.

(e) Identifying and addressing, in collaboration with students, families, and educators, policies that result in the disproportionate use of exclusionary discipline through data collection and analysis (including school climate surveys) disaggregated by race, sex, English learner, disability status, gender-identity, and sexual orientation, in compliance with 20 U.S.C. 1232h and 34 CFR part 98, and other important variables.

(f) Identifying and addressing issues of equity in access to and the use of innovative tools, rigorous content, and effective teaching and learning practices, including by providing job-embedded professional development to educators on strategies for equitably integrating educational technology in ways that elevate student engagement beyond passive use and over-reliance on drill-and-practice to a more robust, creative, and playful medium.

(g) Addressing policies, practices, and procedures that contribute to significant disproportionality in special education or programs for English learners based on race or ethnicity.

(h) Improving the quality of educational programs in juvenile justice facilities (such as detention facilities and secure and non-secure placements) or supporting re-entry after release, by linking youth to education or job training programs.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This document does not preclude us from proposing additional priorities, requirements, definitions, or selection criteria, subject to meeting applicable rulemaking requirements.

Note: This document does not solicit applications. In any year in which we choose to use one or more of these priorities, we invite applications through a notice in the Federal Register.

Final Definitions

This document includes three final definitions. We may apply these definitions in any year in which this program is in effect. We also intend to use the definitions from section 8101 of the ESEA that we included for informational purposes in the NPP, as well as the definition of universal design for learning and professional development, as discussed above.

High-quality tutoring means tutoring that is based on evidence-based strategies to support students' success in the classroom (provided in addition to, and not as a replacement for, classroom teaching); is delivered in individualized or small-group settings; reflects differentiated support based on student need; is aligned with the district's curriculum and rigorous academic standards; has established standards of intensity and dosage based on level of need; is delivered by tutors who are well-trained, who are supported with resources and personnel (such as a tutor coordinator), and who work closely with the student's teacher of record; and includes instruments to examine instructional quality and quantity.

Personalized learning means instruction that is aligned with rigorous college- and career-ready standards so that the pace of learning and the instructional approach are tailored to the needs of individual learners. Learning objectives and content, as well as the pace, may all vary depending on a learner's needs. Personalized learning may also draw on a number of student-centered blended learning models (e.g., competency-based education, project-based learning, universal design for learning). In addition, learning activities are aligned with specific interests of each learner. Data from a variety of sources (including formative assessments, student feedback, and progress in digital learning activities), along with teacher recommendations, are often used to personalize learning.

Underserved students means high-need students as determined by the applicant, which may include one or more of the following:

(a) Students who are living in poverty, especially those students who are also served by schools with high concentrations of students living in poverty.

(b) Students of color.

(c) Students who are members of federally recognized Indian Tribes.

(d) English learners.

(e) Students with disabilities, including students served under the Individuals with Disabilities Education Act and Section 504 of the Rehabilitation Act of 1973.

(f) Disconnected youth, including but not limited to (1) students who lost significant amounts of in-person instruction as a result of the COVID-19 pandemic, and (2) students who did not consistently participate in remote instruction when offered during school building closures.

(g) Migrant students.

(h) Students experiencing homelessness.

(i) Lesbian, gay, bisexual, transgender, and queer (LGBTQ+) students.

(j) Students in foster care.

(k) Students without documentation of immigration status.

(l) Pregnant, parenting, or caregiving students.

(m) Students impacted by the justice system including formerly incarcerated students.

(n) Students who are the first in their family to attend postsecondary education.

(o) Students enrolling in or seeking to enroll in postsecondary education for the first time at the age of 20 or older.

(p) Students who are working full-time while enrolling in postsecondary education.

(q) Students who are enrolling in or seeking to enroll in postsecondary education who are eligible for a Pell Grant.

(r) Adult students with low skills, including those with limited English proficiency.

Executive Orders 12866 and 13563

Regulatory Impact Analysis

Under Executive Order 12866, the Office of Management and Budget (OMB) must determine whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866. Pursuant to the Congressional Review Act (5 U.S.C. 801 et seq.), the Office of Information and Regulatory Affairs designated this rule as not a “major rule,” as defined by 5 U.S.C. 804(2).

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and definitions only on a reasoned determination that the benefits justify the costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with these Executive orders, the Department has assessed the potential costs and benefits, both quantitative and qualitative, of this regulatory action. The potential costs are those resulting from statutory requirements and those we have determined as necessary for administering the Department's programs and activities.

Summary of Costs and Benefits: The Department believes that these final priorities and definitions will not impose significant costs on the entities eligible to apply for EIR. We also believe that the benefits of implementing the final priorities justify any associated costs.

The potential costs are those resulting from statutory requirements and those we have determined as necessary for administering the Department's programs and activities.

Priority 1 gives the Department the opportunity to offer applicants a wide array of potential projects that help them respond to the impact of COVID-19 on students. Additionally, by offering ideas and options for projects, we believe that this priority could result in a number of changes including enhancing stakeholder engagement and implementing innovative strategies to both respond to student needs that were exacerbated by COVID-19 and allow for the evaluation of such impact. The innovation and research activities supported under this priority have the potential to change instructional practices in ways that will improve student outcomes and enable the field to have a more refined set of strategies to respond to other global crises should such need arise in the future.

Priority 2 gives the Department the opportunity to offer applicants a wide array of potential projects that promote equity and reinforce EIR's statutory requirements to serve high-need students. Additionally, by offering ideas and options for projects, we believe that this priority could result in a number of changes including enhancing innovative approaches to equity and allow for the evaluation of such impact.

Because these final priorities and definitions would neither expand nor restrict the universe of eligible entities for any Department grant program, and since application submission and participation in our discretionary grant programs is voluntary, there are no costs associated with these priorities and definitions.

Regulatory Flexibility Act Certification: The Secretary certifies that this final regulatory action will not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this regulatory action will affect are public or private nonprofit agencies and organizations, including institutions of higher education, that may apply. We believe that the costs imposed on an applicant by the final priorities and definitions will be limited to paperwork burden related to preparing an application and that the benefits of implementing these final priorities and definitions will outweigh any costs incurred by the applicant. Therefore, we do not believe that the final priorities and definitions will significantly impact entities beyond the potential for receiving additional support should the entity receive a competitive grant from the Department.

Paperwork Reduction Act of 1995

As part of its continuing effort to reduce paperwork and respondent burden, the Department provides the general public and Federal agencies with an opportunity to comment on proposed and continuing collections of information, in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

The final priorities and definitions contain information collection requirements that are approved by OMB under OMB control numbers 1894-0006. The Department will request OMB approval under 1894-0006 for the Early-phase grants program (84.411C) around the same time this document publishes.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the contact person listed under FOR FURTHER INFORMATION CONTACT, individuals with disabilities can obtain this document in an accessible format. The Department will provide the requestor with an accessible format that may include Rich Text Format (RTF) or text format, a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs Delegated the Authority to Perform the Functions and Duties of the Assistant Secretary, Office for Elementary and Secondary Education.

[FR Doc. 2021-16097 Filed 7-27-21; 8:45 am]

BILLING CODE 4000-01-P